DEPARTMENT OF COMMERCE

National Oceanic and Atmospheric Administration

Availability of Seats for the Channel Islands National Marine Sanctuary Advisory Council

AGENCY: National Marine Sanctuary Program (NMSP), National Ocean Service (NOS), National Oceanic and Atmospheric Administration, Department of Commerce (DOC).

ACTION: Notice and request for applications.

SUMMARY: The Channel Islands National Marine Sanctuary (CINMS or Sanctuary) is seeking applicants for the following six member and three alternate seats on its Sanctuary Advisory Council (Council): Recreation member, Business member and alternate, Public At-Large (2 members, 1 alternate), Fishing member, Conservation member, and Research alternate. Applicants are chosen based upon their particular expertise and experience in relation to the seat for which they are applying; community and professional affiliations; philosophy regarding the conservation and management of marine resources; and the length of residence in the area affected by the Sanctuary. Applicants who are chosen should expect to serve three-year terms, pursuant to the Council's Charter.

DATES: Applications are due by November 5, 2001.

ADDRESSES: Application kits may be obtained from Michael Murray at the Channel Islands National Marine Sanctuary, 113 Harbor Way, Santa Barbara, California, 93109, or online at: www.cinms.nos.noaa.gov/sachome1.html. Completed applications should be sent to the same address.

FOR FURTHER INFORMATION CONTACT: Michael Murray at (805) 844-1464, or Michael.Murray@noaa.gov.

SUPPLEMENTARY INFORMATION: The CINMS Advisory Council was established in December 1998 to assure continued public participation in the management of the Sanctuary. Since its establishment, the Council has played a vital role in the decisions affecting the Sanctuary.

The Council's twenty voting members represent a variety of local user groups, as well as the general public, plus ten local, state and federal governmental jurisdictions. In addition, the respective managers of the four California National Marine Sanctuaries (Channel Islands National Marine Sanctuary, Cordell Bank National Marine Sanctuary, Gulf of the Farallones National Marine Sanctuary, and the Monterey Bay National Marine Sanctuary) participate as non-voting members.

The Council is currently supported by four working groups: the Conservation Working Group chaired by the Conservation representative, the Fishing Working Group chaired by the Fishing representative, the Ports and Harbors Working Group chaired by the Ventura County representative, and the Military Working Group chaired by the Department of Defense representative each respectively dealing with matters concerning the Sanctuary. The working groups are composed of experts from the appropriate fields of interest, serving as invaluable advisors to the Council and the Sanctuary Manager.

The Council represents the coordination link between the Sanctuary and the state and federal management agencies, user groups, researchers, educators, policy makers, and other various groups that help to focus efforts and attention on the marine ecosystems of the Channel Islands.

The Council functions in an advisory capacity to the Sanctuary manager and is instrumental in helping develop policies, program goals, and identify education, outreach, research, long-term monitoring, and resource protection priorities. The Council works in concert with the Sanctuary Manager by keeping him or her informed about issues of concern throughout the Sanctuary, offering recommendations on specific issues, and aiding the Manager in achieving the goals of the Sanctuary program within the context of California's marine programs and policies.

Authority: 16 U.S.C. Section 1431 et seq.

(Federal Domestic Assistance Catalog Number 11.429 Marine Sanctuary Program)
Dated: September 24, 2001.
Jamison S. Hawkins,
Deputy Assistant Administrator for Ocean Services and Coastal Zone Management.

[FR Doc. 01-24290 Filed 9-27-01; 8:45 am]

BILLING CODE 3510-08-M